DEPARTMENT OF HEALTH AND HUMAN SERVICES

Centers for Disease Control and Prevention

[30Day-13-13SL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

CDC Work@Health Program: Phase 1 Needs Assessment and Pilot Training Evaluation—New—National Center for Chronic Disease Prevention and Health Promotion (NCCDPHP), Centers for Disease Control and Prevention (CDC).

Background and Brief Description

The Centers for Disease Control and Prevention (CDC) is establishing the Work@Health Program, a comprehensive workplace health promotion training program, to support employers' efforts to create healthy work environments and provide employees with opportunities to make healthy lifestyle choices. The Work@Health curriculum will be based on a problem-solving approach to improving employer knowledge and skills related to effective, science-based workplace health programs, and supporting the adoption of these programs in the workplace.

The Work@Health Program will train and support small, mid-size, and large employers with three primary goals: (1) Increase understanding of the training needs of employers and the best way to deliver skill-based training to them; (2) Increase employers' level of knowledge and awareness of workplace health program concepts and principles as well as tools and resources to support the design, implementation, and evaluation of effective workplace health strategies and interventions; and (3) Increase the number of science-based workplace health programs, policies, and practices in place at participating employers' worksites and increase the access and opportunities for employees to participate in them.

The Work@Health Program will be implemented in two phases. In Phase 1, CDC will conduct an employer needs assessment, develop training models, and conduct pilot training and evaluation with approximately 60 employers and other organizations. In Phase 2, CDC will transition to full-scale program implementation and evaluation involving approximately 600 employers and other organizations. CDC is requesting OMB approval to initiate Phase 1 information collection in summer 2013.

A one-time Training Needs Assessment Survey will be administered electronically to 200 employers representing small, mid-size, and large businesses from various industry sectors and geographic locales. The needs assessment survey will allow CDC to assess employer preferences with respect to curriculum content, the types of support materials needed by employers and the appropriate level of detail for these materials, and the best approaches for providing technical assistance to employers.

CDC plans to pilot the training with 60 employers in four models (formats), with 15 employers participating in each: (1) A “Hands-on” instructor-led workshop model (T1), (2) a self-paced “Online” model (T2), (3) a combination or “Blended” model (T3), and (4) a “Train-the-Trainer” model (T4) designed to prepare qualified individuals to train employers through the Hands-on, Online, or Blended models. Upon completion of the pilot training, each participant will be asked to complete a 15-20 minute evaluation survey to allow CDC to assess respondent satisfaction with the procedures, methods, content and strategies employed in each Work@Health training model.

Participation in the Work@Health Program needs assessment and pilot training evaluation surveys is voluntary for employers. There are no costs to participants other than their time.

CDC will use the information collected in the needs assessment survey to inform the development of the Work@Health training curriculum and delivery methods. The information collected in the pilot training surveys will be used to assess respondent satisfaction with and suggestions for the procedures, methods, content and strategies employed in each Work@Health training model.

OMB approval is requested for one year. The total estimated annualized burden hours are 117.

Estimated Annualized Burden Hours
Type of respondents | Form name | Number of respondents | Number of responses per respondent | Average burden per response (in hr)
Employers | Training Needs Assessment Survey | 200 | 1 | 20/60
Employers Participating in the Work@Health Pilot Training Program | Pilot Employer Application Form | 400 | 1 | 5/60
| Pilot Training: Hands-on Model Evaluation Survey | 15 | 1 | 15/60
| Pilot Training: Online Model Evaluation Survey | 15 | 1 | 15/60
| Pilot Training: Blended Model Evaluation Survey | 15 | 1 | 20/60
| Pilot Training: Train-the-Trainer Model Evaluation Survey | 15 | 1 | 15/60

Leroy A. Richardson,
Chief, Information Collection Review Office, Office of Scientific Integrity, Office of the Associate Director for Science, Office of the Director, Centers for Disease Control and Prevention.

[FR Doc. 2013-17798 Filed 7-23-13; 8:45 am]

BILLING CODE 4163-18-P